ENVIRONMENTAL PROTECTION AGENCY

40 CFR Part 300

[FRL-7144-6]

National Oil and Hazardous Substance Pollution Contingency Plan; National Priorities List

AGENCY: Environmental Protection Agency.

ACTION: Direct final notice of deletion of a portion of the Joslyn Manufacturing and Supply Superfund Site from the National Priorities List.

SUMMARY: The United States Environmental Protection Agency (EPA), Region V is publishing a direct final notice of deletion of a portion of the Joslyn Manufacturing and Supply, Superfund Site (Site), located in Brooklyn Center, Minnesota, from the National Priorities List (NPL).

The NPL, promulgated pursuant to section 105 of the Comprehensive Environmental Response, Compensation, and Liability Act (CERCLA) of 1980, as amended, is appendix B of 40 CFR part 300, which is the National Oil and Hazardous Substances Pollution Contingency Plan (NCP). This direct final deletion is being published by EPA with the concurrence of the State of Minnesota, through the Minnesota Pollution Control Agency, because EPA has determined that all appropriate response actions under CERCLA have been completed for a portion of the the Site and, therefore, further remedial action pursuant to CERCLA on the portion of the Site is not necessary at this time.

DATES: This direct final notice of partial deletion will be effective April 22, 2002 unless EPA receives adverse comments by March 21, 2002. If adverse comments are received, EPA will publish a timely withdrawal of the direct final notice of deletion in the Federal Register informing the public that the deletion will not take effect.

ADDRESSES: Comments may be mailed, telephoned, or e-mailed to: Gladys Beard, State NPL Deletion Process Manager at (312) 886-7253, Beard.Gladys@EPA.Gov, EPA Region V, 77 W. Jackson Boulevard, Mail Code SR-6J, Chicago, IL 60604, or at 1-800-621-8431.

Information Repositories: Comprehensive information about the Site is available for viewing and copying at the Site information repositories located at: EPA Region V Library, 77 W. Jackson Boulevard, Chicago, IL 60604, (312) 353-5821, Monday through Friday 8:00 a.m. to 4:00 p.m.; Minnesota Pollution Control Agency 520 Lafayette, Monday through Friday, 8:00 a.m. to 4:30 p.m.

FOR FURTHER INFORMATION CONTACT: Gladys Beard, State NPL Deletion Process Manager at (312) 886-7253, Beard.Gladys@EPA.Gov or 1-800-621-8431, EPA Region V, 77 W. Jackson Boulevard, Mail Code SR-6J, Chicago, IL 60604.

SUPPLEMENTARY INFORMATION:

Table of Contents

I. Introduction

II. NPL Deletion Criteria

III. Deletion Procedures

IV. Basis for Site Deletion

V. Deletion Action

I. Introduction

EPA Region V is publishing this direct final notice of deletion of a portion of the Joslyn Manufacturing and Supply, Superfund Site from the NPL.

EPA identifies sites that appear to present a significant risk to public health or the environment and maintains the NPL as the list of those sites. As described in § 300.425(e)(3) of the NCP, sites deleted from the NPL remain eligible for remedial actions if conditions at a deleted site warrant such action.

Because EPA considers this action to be non-controversial and routine, EPA is taking it without prior publication of a notice of intent to delete. This action will be effective April 22, 2002, unless EPA receives adverse comments by March 21, 2002 on this document. If adverse comments are received within the 30-day public comment period on this document, EPA will publish a timely withdrawal of this direct final deletion before the effective date of the deletion and the deletion will not take effect. EPA will, as appropriate, prepare a response to comments and continue with the deletion process on the basis of the notice of intent to delete and the comments already received. There will be no additional opportunity to comment.

Section II of this document explains the criteria for deleting sites from the NPL. Section III discusses procedures that EPA is using for this action. Section IV discusses the Joslyn Manufacturing and Supply Superfund Site and demonstrates how a portion of the Site meets the deletion criteria. Section V discusses EPA's action to delete a portion of the Site from the NPL unless adverse comments are received during the public comment period.

II. NPL Deletion Criteria

Section 300.425(e) of the NCP provides that releases may be deleted from the NPL where no further response is appropriate. In making a determination to delete a release from the NPL, EPA shall consider, in consultation with the State, whether any of the following criteria have been met:

i. Responsible parties or other persons have implemented all appropriate response actions required;

ii. All appropriate Fund-financed (Hazardous Substance Superfund Response Trust Fund) responses under CERCLA have been implemented, and no further response action by responsible parties is appropriate; or

iii. The remedial investigation has shown that the release poses no significant threat to public health or the environment and, therefore, the taking of remedial measures is not appropriate.

Even if a site or portions of a site are deleted from the NPL, where hazardous substances, pollutants, or contaminants remain at the deleted site above levels that allow for unlimited use and unrestricted exposure, CERCLA section 121(c), 42 U.S.C. 9621(c), requires that a subsequent review of the site be conducted at least every five years after the initiation of the remedial action at the deleted site to ensure that the action remains protective of public health and the environment. If new information becomes available which indicates a need for further action, EPA may initiate remedial actions. Whenever there is a significant release from a site deleted from the NPL, the deleted site may be restored to the NPL without application of the hazard ranking system.

III. Deletion Procedures

The following procedures apply to the partial deletion of this Site:

(1) The EPA consulted with Minnesota on the partial deletion of the Site from the NPL prior to developing this direct final notice of deletion.

(2) Minnesota concurred with the partial deletion of the Site from the NPL.

(3) Concurrently with the publication of this direct final notice of partial deletion, a notice of intent to partially delete is published today in the “Proposed Rules” section of the Federal Register, as well as in a major local newspaper of general circulation at or near the Site, and is being distributed to appropriate federal, state, and local government officials and other interested parties. The newspaper notice announces the 30-day public comment period concerning the notice of intent to partially delete the Site from the NPL.

(4) The EPA placed copies of documents supporting the partial deletion in the site information repositories identified above.

(5) If adverse comments are received within the 30-day public comment period on this document EPA will publish a timely notice of withdrawal of this direct final notice of partial deletion before its effective date and will prepare a response to comments and continue with a decision on the partial deletion based on the notice of intent to partially delete and the comments already received.

Deletion or partial deletion of a site from the NPL does not itself create, alter, or revoke any individual's rights or obligations. Deletion or partial deletion of a site from the NPL does not in any way alter EPA's right to take enforcement actions, as appropriate. The NPL is designed primarily for informational purposes and to assist EPA management. Section 300.425(e)(3) of the NCP states that the deletion of a site from the NPL does not preclude eligibility for future response actions should future conditions warrant such actions.

IV. Basis for Partial Site Deletion

The following information provides EPA's rationale for deleting a portion of this Site from the NPL:

Site Location

The Site is located in Brooklyn Center, Minnesota and consists of 29-acres which were used for wood treating from the 1920s until 1980. On September 21, 1984, the Site was listed by the U. S. Environmental Protection Agency (EPA) on the National Priorities List (NPL) due to extensive soil and groundwater contamination. The western border of the triangular shaped Site is adjacent to Twin Lakes. The south and east sides are bounded by residential areas, and the northwest to southeast border consists of railroad tracks, with industrial and residential areas north of the tracks.

Site History

The primary contaminants of concern at the Site are the wood-treating compounds pentachlorophenol (PCP), and carcinogenic and noncarcinogenic polynuclear aromatic hydrocarbons (cPAHs and nPAHs). All of these compounds are constituents of creosote. Prior to the Remedial Actions, the above referenced compounds were detected in Site groundwater and soil. EPA also evaluated soluble metal salts of copper, chromium and arsenic, used as wood-treating chemicals in later years of operation, and chlorinated dibenzo-p-dioxins and dibenzofurans, which are often found as impurities in PCP. Records indicate that during Site operations, wastes and sludges from wood-treating processes were disposed into on-site waste ponds. Several large spills also occurred. Since 1980, all equipment formerly used for wood-treating operations has been removed from the Site.

The former Joslyn Manufacturing Supply Company, now Joslyn Corporation (Joslyn) operated until its closure in 1980. Operations at the Site consisted of a wood-treating process, which originally used creosote as the wood-preserving compound in a thermal process. In approximately 1965, the process was converted to a pressure treating operation using PCP and later to water-soluble wood-preserving fluids such as chromated copper arsenic (CCA).

Creosote, PCP and CCA contaminated water generated from the cleaning of the storage and thermal treating tanks, boiler blowdown water and wastewater from the wood-treating process were placed in waste disposal ponds located on the Site. In addition, general burial of sludges and at least two large wood-treating solution spills, one in the late 1950's/early 1960's and one in 1968, had occurred at the Site.

In 1961, the city of Brooklyn Center sampled groundwater from a number of private drinking water wells located near the Site and found that some of the wells were contaminated by phenols. In 1980, the Minnesota Pollution Control Agency (MPCA) staff sampled several of the wells and determined that phenols and PCP contamination existed in a number of the wells.

Remedial Investigation and Feasibility Study (RI/FS)

On September 27, 1983, the MPCA Citizens' Board issued a Request for Response Action (RFRA) to Joslyn pursuant to the Minnesota Environmental Response and Liability Act (MERLA) requesting that Joslyn undertake remedial actions to abate the release of hazardous substances at the Site. On May 30, 1985, the MPCA and Joslyn entered into a Response Order by Consent (Consent Order) to continue the investigation and cleanup of the Site.

The Remedial Investigation (RI) for the Joslyn Site was completed in 1986. The Minnesota Department of Health (MDH) conducted a Health Assessment for the Site in 1989 and an updated Health Assessment in 1994.

Two aquifers have been identified at the Site. The upper unconsolidated aquifer is a surficial sand aquifer that extends from the ground surface to depths of 30 to 80 feet and is comprised of Operable Units 1 and 2 (the shallow and middle sand units). The lower aquifer consists of the St. Peter Sandstone, the Prairie du Chien, and a buried sand and gravel unit overlying these bedrock units.

The upper unconsolidated aquifer is divided into a shallow and a middle sand unit. A middle confining unit consisting of a sequence of stratified sand, silt, and clay separated by the upper and lower aquifers lie below approximately the eastern two-thirds of the Site. A buried bedrock valley is located below the western one-third of the site.

The Site soil cleanup began in 1988 with an Interim Response Action when Joslyn excavated, shipped, and disposed of 18,818 tons of contaminated soil, classified as K001 hazardous waste, in a permitted hazardous waste landfill in Oklahoma.

There are several surface water bodies in the vicinity of the Site. Twin Lakes and a small wetland area are on the western border of the Site. Ryan Lake, Ryan Creek, Shingle Creek, and the Mississippi River are all within two and one-half miles (and east and downgradient) of the Site. Groundwater flows across the Site from Twin Lakes to the east-southeast toward the Mississippi River. Groundwater does not impact the surface water of Twin Lakes. In the early 1980's, EPA and Joslyn collected and analyzed surface water samples from Twin Lakes to investigate potential impacts of surface runoff. Results indicated the absence of PCP and suggested other sources of low level PAHs. The MPCA staff concluded that Ryan Lake and Ryan Creek have not been impacted by Site contamination, because they lie above the water table downgradient of the Site.

Record of Decision Findings

A Record of Decision (ROD) included signed by MPCA for this Site on July 31, 1989. The components of the selected remedy included a groundwater pump out system, off-site disposal of heavily contaminated soils, on-site land treatment of contaminated soils and long-term groundwater monitoring.

Characterization of Remaining Risk

Operable Unit 4 (OU4) consists of the visually contaminated soil remaining onsite following the 1988 Interim Response Action. Contaminated soil was excavated and was biologically treated onsite in a nine-acre Land Treatment Unit (LTU) in batches known as lifts. Biological treatment conditions (moisture, nutrient and oxygen levels) were managed to the extent allowed by typical land farming practices. The treated soil was then backfilled onto the Site.

The systems continues to be operational and functional. All of the systems are operating as designed and has proven effective in controlling lateral migration of contaminants. Recent samples of monitoring and pumpout wells indicate that the groundwater from offsite monitoring wells do not exhibit contaminant levels that exceed the cleanup criteria.

Response Actions

At the present time, Operable Unit 1 (OU1) consists of eight pumpout wells. Twenty-six groundwater monitoring wells monitor the condition of the groundwater in OU1. The groundwater pumpout system is designed to remove contaminated groundwater from the upper aquifer and thereby reduce the potential for lateral migration; control the migration of floating oil in the vicinity of the former wood treating area; and capture contaminated groundwater in the upper aquifer at the downgradient Site boundary. Lateral migration of contaminants of concern have been effectively controlled by the groundwater pumpout system. The system is operating as designed and has proven effective in controlling lateral migration of contaminants.

Operable Unit 2 (OU2) consists of two pumpout wells to remove contaminated groundwater in the middle sand portion of the upper aquifer and to prevent downward migration of the contaminants. Two groundwater monitoring wells monitor the condition of groundwater in OU2. This system captures contaminated groundwater from the middle sand portion of the upper aquifer, which is situated below and within the middle confining unit and above the lower aquifer. The system is designed to control vertical migration of contaminants to the lower aquifer. The system is controlling vertical gradients between the middle sands and the lower aquifer and is likewise controlling contaminant migration.

Operable Unit 3 (OU3) consists of a dense non-aqueous phase liquid (DNAPL) recovery well, a DNAPL recovery enhancement well, collection and storage facilities to remove DNAPLs and the contaminated groundwater in the depression area of the upper aquifer. In three years of operation, the DNAPL recovery system has removed approximately 3,000 gallons of DNAPL from the formation.

Operable Unit 4 (OU4) consists of the visually contaminated soil remaining onsite following the 1988 Interim Response Action. Contaminated soil was excavated and was biologically treated onsite in a nine-acre Land Treatment Unit (LTU) in batches known as lifts. Biological treatment conditions (moisture, nutrient and oxygen levels) were managed to the extent allowed by typical land farming practices. Engineered perimeter dikes prevented precipitation run-on. Precipitation run-off was collected and discharged, with water from the groundwater pumpout system, to the sanitary sewer. Air quality was monitored near the working area to determine worker protection requirements. Also particulate air monitoring was conducted during excavation and soil treatment at the property boundary. Evaluation of this data indicated that excavation and soil treatment operations were conducted in a manner that protected the human health of workers and residents.

In 1997, there were soil investigations conducted near the drain line (in what became know as the “Drainline Area”); the Twin Lakes sediments; and any wetlands or ditches used to receive or convey contaminants of concern from the Site (in what became known as the “West Area”). In this area 1,200 cubic yards of contaminated soil from the West and Drainline Areas were treated using a chemical oxidation technique. This technique was used to reduce the soil contaminants to the established treatment goals. Chemical oxidation was utilized for the soil contaminants which resulted in the reduction of the cost of treatment. In 1998, this soil met the treatment goals.

On March 24, 1999, the MPCA staff completed a Human Health Limited Risk Assessment (LRA). The LRA concluded that much of the Site was cleaned up to meet the generalized industrial land use scenario; however, the LRA concluded that unacceptble risks remain in accessible soil (the first three feet below grade) of three Site areas: The West Area, the LTU, and one sampling grid out of a total of 8 grids in the East Area.

In April and June of 1999, Joslyn excavated contaminated soil in all the areas of the Site except the West Area. With the exception of the West Area, all appropriate CERCLA response activities have been completed for OU4 (soil). Although additional contaminated soil and unacceptable risks remain in the West Area, MPCA currently anticipates conducting or requiring the completion of a Remedial Investigation and Feasibility Study (RI/FS) for the West Area. The RI/FS is the first step in the remediation of the West area. No further action is necessary to protect human health and the environment in relation to soil contamination at the Site, with the exception of the West Area. With this in mind, EPA is proposing and MPCA has concurred in only a partial delisting of OU4 of the Site. The area being proposed for deletion relates to real estate parcels decribed as Lots 1, 2, 3, Block 1 Joslyn Addition, according to the plat thereof, and situated in Hennepin County, Minnesota. A complete legal description of the Site is available from the information repositories.

Cleanup Standards

The MPCA staff has verified that the Remedial Actions for Operable Units 1, 2, and 3 are operating as designed and that all visually contaminated soils had been removed in all areas except for the West Area.

Operation and Maintenance

Joslyn has assumed all responsibility for the investigation cleanup and long term monitoring including operation and maintenance of the response actions.

Five-Year Review

EPA concurred on a five-year review prepared by MPCA for this Site on July 22, 1999. As a matter of policy, the EPA decided to conduct this five-year review pursuant to CERCLA 121(c) and as provided in the current guidance of Five Year Reviews: OSWER Directive 9355.7-03B-P, Comprehensive Five-Year Review Guidance, October 1999: OSWER Directive 9322.7-01, Structure and Components of Five-Year Reviews, May 23, 1991; OSWER Directive 9322.7-02A, Supplemental Five-Year Review Guidance, July 26, 1994, The Second Supplemental Five-Year Review Guidance, December 21, 1995 and third Supplemental Five-Year Review Guidance, June 2001. The next five-year review for the Joslyn Manufacturing and Supply Site is scheduled to occur in July 2004. The five-year review will consist of a review of all relevant Site data and newly promulgated environmental laws.

Community Involvement

Public participation activities have been satisfied as required in CERCLA section 113(k), 42 U.S.C. 9613(k), and CERCLA section 117, 42 U.S.C. 9617. Documents in the deletion docket which EPA relied on for recommendation of the partial deletion of this Site from the NPL are available to the public in the information repositories.

V. Deletion Action

The EPA, with concurrence of the State of Minnesota, has determined that all appropriate responses under CERCLA regarding soil contamination (OU4) at the Site (except the West Area) have been completed, and that no further CERCLA response is appropriate to provide protection of human health and the environment. Therefore, EPA is deleting OU4 (except the West Area) of the Site from the NPL.

Because EPA considers this action to be non-controversial and routine, EPA is taking it without prior publication. This action will be effective April 22, 2002 unless EPA receives adverse comments by March 21, 2002. If adverse comments are received within the 30-day public comment period, EPA will publish a timely withdrawal of this direct final notice of deletion before the effective date of the deletion and it will not take effect. EPA will prepare a response to comments and as appropriate continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: January 31, 2002.
David A. Ullrich,
Acting Regional Administrator, Region V.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

Appendix B—[Amended]

2. Table 1 of appendix B to part 300 is amended under Minnesota “MN” by revising the entry for “Joslyn Manufacturing & Supply Co.” and the city “Brooklyn Center.”

Table 1.—General Superfund Section
State | Site name | City/county | (Notes) ᵃ
* * * * * * *
MN | Joslyn Manufacturing & Supply Co | Brooklyn Center | P
* * * * * * *
(a) * * *
P=Sites with partial deletion(s).

* * * * *

[FR Doc. 02-3653 Filed 2-15-02; 8:45 am]

BILLING CODE 6560-50-P